NUCLEAR REGULATORY COMMISSION

Sunshine Act Meeting

AGENCY HOLDING THE MEETING: Nuclear Regulatory Commission.

DATES: Weeks of February 13, 21, 28, and March 6, 2000.

PLACE: Commissioner's Conference Room, 11555 Rockville Pike, Rockville, Maryland.

STATUS: Public and Closed.

MATTERS TO BE CONSIDERED:

Week of February 14

There are no meetings scheduled for the Week of February 14.

Week of February 21—Tentative

Tuesday, February 22

9:00 a.m. Briefing on Threat Environment Assessment (Closed-Ex. 1)

11:00 a.m. Briefing by the Executive Branch (Closed-Ex. 1) Wednesday, February 23

8:55 a.m. Affirmation Session (Public Meeting) (if needed)

9:00 a.m. Briefing on Status of Spent Fuel Projects (Public Meeting) (Contact: William Brach, 301-415-8500)

11:00 a.m. Discussion of Intragovernmental issues (Closed-Ex. 9)

Week of February 28—Tentative

Tuesday, February 29, 2000

1:30 p.m. Briefing on Draft 50.59 Regulatory Guide (Public Meeting) (Contact: Eileen McKenna, 301-415-2189)

Wednesday, March 1, 2000

9:00 a.m. Briefing on Improvements in the Plant Assessment Process (Public Meeting) (Contact: Bill Dean, 301-415-1257)

Thursday, March 2, 2000

9:25 a.m. Affirmation/Discussion and Vote (Public Meeting (If needed)

9:30 a.m. Meeting with ACRS on Risk Informing Part 50 (Public Meeting) (Contact: John Larkins, 301-415-7360)

Friday, March 3, 2000

9:30 a.m. Briefing on Calvert Cliffs, License Renewal (Public Meeting) (Contact: Chris Grimes, 301-415-1183)

Week of March 6—Tentative

Monday, March 6, 2000

1:30 p.m. Meeting with NARUC (Public Meeting)

The schedule for commission meetings is subject to change on short notice. To verify the status of meetings call (Recording)—(301) 415-1292. Contact person for more information: Bill Hill (301) 415-1661.

ADDITIONAL INFORMATION: By a vote of 5-0 on February 10, the Commission determined pursuant to U.S.C. 552b(e) and § 9.107(a) of the Commission's rules that “Affirmation of INTERNATIONAL URANIUM (USA) CORP. Commission Review of LBP-99-5” (PUBLIC MEETING) be held on February 10, and on less than one week's notice to the public.

The NRC Commission meeting Schedule can be found on the Internet at: http://www.nrc.gov/SECY/smj/schedule.htm.

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: February 11, 2000.
William M. Hill, Jr.,
SECY Tracking Officer, Office of the Secretary.

[FR Doc. 00-3786 Filed 2-14-00; 11:00 am]

BILLING CODE 7590-01-M